DEPARTMENT OF ENERGY

Federal Energy Regulatory Commission

Combined Notice of Filings

Take notice that the Commission has received the following Natural Gas Pipeline Rate and Refund Report filings:

Filings Instituting Proceedings

Docket Numbers: RP16-878-000.

Applicants: Texas Eastern Transmission, LP.

Description: Section 4(d) Rate Filing: Negotiated Rates—BP Energy Contract 911353 to be effective 5/1/2016.

Filed Date: 4/28/16.

Accession Number: 20160428-5073.

Comments Due: 5 p.m. ET 5/10/16.

Docket Numbers: RP16-879-000.

Applicants: Northern Natural Gas Company.

Description: Section 4(d) Rate Filing: 20160428 Winter PRA Fuel Rates to be effective 11/1/2016.

Filed Date: 4/28/16.

Accession Number: 20160428-5252.

Comments Due: 5 p.m. ET 5/10/16.

Docket Numbers: RP16-880-000.

Applicants: Equitrans, L.P.

Description: Section 4(d) Rate Filing: Negotiated Rate AGS Service Agreement—EQT Energy effective 5-1-2016 to be effective 5/1/2016.

Filed Date: 4/28/16.

Accession Number: 20160428-5295.

Comments Due: 5 p.m. ET 5/10/16.

Docket Numbers: RP16-881-000.

Applicants: El Paso Natural Gas Company, L.L.C.

Description: Section 4(d) Rate Filing: Negotiated Rate Agreement Update (APS May 2016) to be effective 5/1/2016.

Filed Date: 4/28/16.

Accession Number: 20160428-5296.

Comments Due: 5 p.m. ET 5/10/16.

Docket Numbers: RP16-882-000.

Applicants: Gulfstream Natural Gas System, L.L.C.

Description: Compliance filing 2016 GNGS TUP/SBA.

Filed Date: 4/29/16.

Accession Number: 20160429-5000.

Comments Due: 5 p.m. ET 5/11/16.

Docket Numbers: RP16-883-000.

Applicants: Southeast Supply Header, LLC.

Description: Section 4(d) Rate Filing: 2016 SESH TUP/SBA Annual Filing to be effective 6/1/2016.

Filed Date: 4/29/16.

Accession Number: 20160429-5001.

Comments Due: 5 p.m. ET 5/11/16.

Docket Numbers: RP16-884-000.

Applicants: Cheyenne Plains Gas Pipeline Company, L.

Description: Section 4(d) Rate Filing: FL&U to be effective June 1, 2016 to be effective 6/1/2016.

Filed Date: 4/29/16.

Accession Number: 20160429-5003.

Comments Due: 5 p.m. ET 5/11/16.

Docket Numbers: RP16-885-000.

Applicants: Wyoming Interstate Company, L.L.C.

Description: Section 4(d) Rate Filing: Fuel and L&U Rates to be effective 6/1/2016.

Filed Date: 4/29/16.

Accession Number: 20160429-5005.

Comments Due: 5 p.m. ET 5/11/16.

Docket Numbers: RP16-886-000.

Applicants: ANR Pipeline Company.

Description: Section 4(d) Rate Filing: Cashout Surcharge 2016 to be effective 6/1/2016.

Filed Date: 4/29/16.

Accession Number: 20160429-5011.

Comments Due: 5 p.m. ET 5/11/16.

Docket Numbers: RP16-887-000.

Applicants: ETC Tiger Pipeline, LLC.

Description: Section 4(d) Rate Filing: Fuel Filing on 4-29-16 to be effective 6/1/2016.

Filed Date: 4/29/16.

Accession Number: 20160429-5013.

Comments Due: 5 p.m. ET 5/11/16.

Docket Numbers: RP16-888-000.

Applicants: Fayetteville Express Pipeline LLC.

Description: Section 4(d) Rate Filing: Fuel Filing on 4-29-16 to be effective 6/1/2016.

Filed Date: 4/29/16.

Accession Number: 20160429-5014.

Comments Due: 5 p.m. ET 5/11/16.

Docket Numbers: RP16-889-000.

Applicants: Florida Gas Transmission Company, LLC.

Description: Section 4(d) Rate Filing: Reticulated Area Points to be effective 6/1/2016.

Filed Date: 4/29/16.

Accession Number: 20160429-5016.

Comments Due: 5 p.m. ET 5/11/16.

Docket Numbers: RP16-890-000.

Applicants: Gulf South Pipeline Company, LP.

Description: Section 4(d) Rate Filing: Cap Rel Neg Rate Agmt Filing (Oglethorpe 8482 to NJR 46096) to be effective 5/1/2016.

Filed Date: 4/29/16.

Accession Number: 20160429-5089.

Comments Due: 5 p.m. ET 5/11/16.

Docket Numbers: RP16-891-000.

Applicants: Texas Gas Transmission, LLC.

Description: Compliance filing Compliance Filing in Docket No. CP14-553-000 to submit Neg Rate Agmts to be effective 6/1/2016.

Filed Date: 4/29/16.

Accession Number: 20160429-5092.

Comments Due: 5 p.m. ET 5/11/16.

Docket Numbers: RP16-892-000.

Applicants: Gulf South Pipeline Company, LP.

Description: Section 4(d) Rate Filing: Cap Rel Neg Rate Agmt (FPL 41618 to Tenaska 46324) to be effective 5/1/2016.

Filed Date: 4/29/16.

Accession Number: 20160429-5093.

Comments Due: 5 p.m. ET 5/11/16.

Docket Numbers: RP16-893-000.

Applicants: Gulf South Pipeline Company, LP.

Description: Section 4(d) Rate Filing: Cap Rel Neg Rate Agmt (FPL 41618 to LaClede 46332) to be effective 5/1/2016.

Filed Date: 4/29/16.

Accession Number: 20160429-5097.

Comments Due: 5 p.m. ET 5/11/16.

Docket Numbers: RP16-894-000.

Applicants: Gulf South Pipeline Company, LP.

Description: Section 4(d) Rate Filing: Update to Pre-Effective Date Amendments to be effective 6/1/2016.

Filed Date: 4/29/16.

Accession Number: 20160429-5098.

Comments Due: 5 p.m. ET 5/11/16.

Docket Numbers: RP16-895-000.

Applicants: Natural Gas Pipeline Company of America.

Description: Section 4(d) Rate Filing: Occidental Energy Marketing to be effective 5/1/2016.

Filed Date: 4/29/16.

Accession Number: 20160429-5125.

Comments Due: 5 p.m. ET 5/11/16.

Docket Numbers: RP16-896-000.

Applicants: Natural Gas Pipeline Company of America.

Description: Section 4(d) Rate Filing: Macquarie Energy LLC to be effective 5/1/2016.

Filed Date: 4/29/16.

Accession Number: 20160429-5149.

Comments Due: 5 p.m. ET 5/11/16.

Docket Numbers: RP16-897-000.

Applicants: Natural Gas Pipeline Company of America.

Description: Section 4(d) Rate Filing: Tenaska to be effective 5/1/2016.

Filed Date: 4/29/16.

Accession Number: 20160429-5152.

Comments Due: 5 p.m. ET 5/11/16.

Docket Numbers: RP16-898-000.

Applicants: Midcontinent Express Pipeline LLC.

Description: Section 4(d) Rate Filing: Fuel Tracking Filing April 2016 to be effective 6/1/2016.

Filed Date: 4/29/16.

Accession Number: 20160429-5154.

Comments Due: 5 p.m. ET 5/11/16.

Docket Numbers: RP16-899-000.

Applicants: East Tennessee Natural Gas, LLC.

Description: Section 4(d) Rate Filing: OFO and Scheduling Revisions to be effective 6/1/2016.

Filed Date: 4/29/16.

Accession Number: 20160429-5158.

Comments Due: 5 p.m. ET 5/11/16.

Docket Numbers: RP16-900-000.

Applicants: Kinetica Deepwater Express, LLC.

Description: Section 4(d) Rate Filing: Kinetica Deepwater Express Tariff Name Change and Cleanup Filing to be effective 6/1/2016.

Filed Date: 4/29/16.

Accession Number: 20160429-5161.

Comments Due: 5 p.m. ET 5/11/16.

Docket Numbers: RP16-901-000.

Applicants: Gas Transmission Northwest LLC.

Description: Section 4(d) Rate Filing: Portland General Electric Negotiated Rate to be effective 5/1/2016.

Filed Date: 4/29/16.

Accession Number: 20160429-5165.

Comments Due: 5 p.m. ET 5/11/16.

Docket Numbers: RP16-902-000.

Applicants: Algonquin Gas Transmission, LLC.

Description: Section 4(d) Rate Filing: Negotiated Rates—Colonial Releases to BBPC 791520 & 791521 to be effective 5/1/2016.

Filed Date: 4/29/16.

Accession Number: 20160429-5167.

Comments Due: 5 p.m. ET 5/11/16.

Docket Numbers: RP16-903-000.

Applicants: Transcontinental Gas Pipe Line Company,

Description: Section 4(d) Rate Filing: Negotiated Rates—Cherokee AGL—Replacement Shippers—May 2016 to be effective 5/1/2016.

Filed Date: 4/29/16.

Accession Number: 20160429-5177.

Comments Due: 5 p.m. ET 5/11/16.

Docket Numbers: RP16-904-000.

Applicants: Algonquin Gas Transmission, LLC.

Description: Section 4(d) Rate Filing: Negotiated Rates—Baystate to BBPC 791489 to be effective 5/1/2016.

Filed Date: 4/29/16.

Accession Number: 20160429-5178.

Comments Due: 5 p.m. ET 5/11/16.

Docket Numbers: RP16-905-000.

Applicants: Algonquin Gas Transmission, LLC.

Description: Section 4(d) Rate Filing: Negotiated Rate Amendment—BP 510820 to be effective 5/1/2016.

Filed Date: 4/29/16.

Accession Number: 20160429-5285.

Comments Due: 5 p.m. ET 5/11/16.

Docket Numbers: RP16-906-000.

Applicants: Northern Natural Gas Company.

Description: Section 4(d) Rate Filing: 20160429 Negotiated Rate to be effective 5/1/2016.

Filed Date: 4/29/16.

Accession Number: 20160429-5314.

Comments Due: 5 p.m. ET 5/11/16.

Docket Numbers: RP16-907-000.

Applicants: Iroquois Gas Transmission System, L.P.

Description: Section 4(d) Rate Filing: 04/29/16 Negotiated Rates—Empire Generating Co, LLC (RTS) 7480-06 to be effective 5/1/2016.

Filed Date: 4/29/16.

Accession Number: 20160429-5318.

Comments Due: 5 p.m. ET 5/11/16.

Docket Numbers: RP16-908-000.

Applicants: Texas Eastern Transmission, LP.

Description: Section 4(d) Rate Filing: EPC JUNE 2016 FILING to be effective 6/1/2016.

Filed Date: 4/29/16.

Accession Number: 20160429-5320.

Comments Due: 5 p.m. ET 5/11/16.

Docket Numbers: RP16-909-000.

Applicants: Rockies Express Pipeline LLC.

Description: Section 4(d) Rate Filing: Neg Rate 2016-04-29 CP to be effective 5/1/2016.

Filed Date: 4/29/16.

Accession Number: 20160429-5407.

Comments Due: 5 p.m. ET 5/11/16.

Docket Numbers: RP16-910-000.

Applicants: Dominion Cove Point LNG, LP.

Description: Section 4(d) Rate Filing: DCP—St. Charles Transportation Project (CP15-22) to be effective 6/1/2016.

Filed Date: 4/29/16.

Accession Number: 20160429-5461.

Comments Due: 5 p.m. ET 5/11/16.

Docket Numbers: RP16-911-000.

Applicants: Alliance Pipeline L.P.

Description: Section 4(d) Rate Filing: May 1-31 2016 Service to be effective 5/1/2016.

Filed Date: 4/29/16.

Accession Number: 20160429-5470.

Comments Due: 5 p.m. ET 5/11/16.

Docket Numbers: RP16-913-000.

Applicants: Great Lakes Gas Transmission Limited Par.

Description: Great Lakes Gas Transmission's Revenue Cap and Revenue Sharing Mechanism True-Up Report.

Filed Date: 4/29/16.

Accession Number: 20160429-5515.

Comments Due: 5 p.m. ET 5/11/16.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP15-65-000.

Applicants: Gulf South Pipeline Company, LP.

Description: Report Filing: Settlement Refund Report in Docket No. RP15-65-000.

Filed Date: 4/29/16.

Accession Number: 20160429-5110.

Comments Due: 5 p.m. ET 5/11/16.

Docket Numbers: RP16-137-007.

Applicants: Tallgrass Interstate Gas Transmission, L.

Description: Compliance filing Motion Filing for Rate Case to be effective 5/1/2016.

Filed Date: 4/28/16.

Accession Number: 20160428-5287.

Comments Due: 5 p.m. ET 5/10/16.

Docket Numbers: RP13-584-004.

Applicants: Columbia Gas Transmission, LLC.

Description: Compliance filing Revenue Sharing Report—2016.

Filed Date: 4/29/16.

Accession Number: 20160429-5245.

Comments Due: 5 p.m. ET 5/11/16.

Docket Numbers: RP16-501-003.

Applicants: High Point Gas Transmission, LLC.

Description: Compliance filing Compliance for NAESB Order Version 3 to be effective 4/1/2016.

Filed Date: 4/29/16.

Accession Number: 20160429-5192.

Comments Due: 5 p.m. ET 5/11/16.

Docket Numbers: RP16-532-002.

Applicants: Hardy Storage Company, LLC.

Description: Compliance filing Order 809 & NAESB 3.0 Errata Filing to be effective 4/1/2016.

Filed Date: 4/29/16.

Accession Number: 20160429-5466.

Comments Due: 5 p.m. ET 5/11/16.

Docket Numbers: RP16-696-001.

Applicants: Transcontinental Gas Pipe Line Company.

Description: Compliance filing Docket No. RP16-696-000 Compliance Filing—WSS Incremental Rates.

Filed Date: 4/29/16.

Accession Number: 20160429-5452.

Comments Due: 5 p.m. ET 5/11/16.

Docket Numbers: RP16-857-002.

Applicants: Eastern Shore Natural Gas Company.

Description: Compliance filing Amended Order On Compliance Order to be effective 4/1/2016.

Filed Date: 4/29/16.

Accession Number: 20160429-5469.

Comments Due: 5 p.m. ET 5/11/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 2, 2016.
Nathaniel J. Davis, Sr.,
Deputy Secretary.

[FR Doc. 2016-10870 Filed 5-9-16; 8:45 am]

BILLING CODE 6717-01-P